DEPARTMENT OF HEALTH AND HUMAN SERVICES

Health Resources and Services Administration

Agency Information Collection Activities: Submission to OMB for Review and Approval; Public Comment Request

ACTION: Notice.

SUMMARY: In compliance with section 3506(c)(2)(A) of the Paperwork Reduction Act of 1995 (44 U.S.C. Chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

DATES: Deadline: Comments on this ICR should be received no later than April 6, 2016.

ADDRESSES: Submit your comments to the desk officer for HRSA, either by email to OIRA_submission@omb.eop.gov or by fax to 202-395-5806. Please direct all correspondence to the “attention of the desk officer for HRSA.”

SUPPLEMENTARY INFORMATION: Information Collection Request Title: Health Center Controlled Networks (OMB No. 0915-0360) Extension.

Abstract: One goal of the Health Resources and Services Administration (HRSA) is to ensure that all Health Center Program grantees effectively implement health information technology (HIT) systems that enable all providers to adopt and implement HIT, including Electronic Health Records (EHRs); to become meaningful users of EHRs and use HIT systems to increase access to care, improve quality of care, and reduce the costs of care delivered. The Health Center Controlled Network (HCCN) Program serves as a major component of HRSA's HIT initiative to support these goals. The HCCN model focuses on the integration of certain functions and the sharing of skills, resources, and data to improve health center operations and care provision, and generating efficiencies and economies of scale. Through this grant, HCCNs will provide support for the adoption and implementation of HIT, including meaningful use of EHRs, to improve the quality of care provided by existing Health Center Program grantees (i.e., Section 330 funded health centers) by engaging in the following program components:

• Adoption and Implementation: Assist participating health centers with effectively adopting and implementing certified EHR technology.

• Meaningful Use: Support participating health centers in meeting Meaningful Use requirements and accessing incentive payments under the Medicare and Medicaid Electronic Health Records Incentive Programs.

• Quality Improvement (QI): Advance participating health centers' QI initiatives to improve clinical and operational quality, including their obtaining of Patient Centered Medical Home (PCMH) recognition.

HRSA collects and evaluates network outcome measures. HRSA requires that HCCNs report such measures to HRSA in annual work plan updates as part of their annual, non-competing continuation progress reports through an electronic reporting system. The work plan includes information on grantees' plans and progress on the following:

• Adoption and Implementation of HIT (including EHR);

• Attainment of Meaningful Use Requirements; and

• Improvement of quality measures (e.g., Healthy People 2020 clinical quality measures, PCMH recognition status, etc.).

The annual, non-competing continuation progress reports describe each grantee's progress in achieving key activity goals such as quality improvement, data access and exchange, efficiency and effectiveness of network services, and the ability to track and monitor patient outcomes, as well as emerging needs, challenges and barriers encountered customer satisfaction, and plans to meet goals for the next year. Grantees submit their work plan updates and annual, non-competing continuation progress reports each fiscal year of the grant; the submission and subsequent HRSA approval of each report triggers the budget period renewal and release of each subsequent year of funding.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

The annual estimate of burden is as follows:

Form name | Number of respondents | Responses per respondent | Total responses | Hours per response | Total burden hours
Work Plan Update | 43 | 1 | 43 | 10.9 | 468.7
Annual Progress Report | 43 | 1 | 43 | 44.5 | 1913.5
Total | 86 |  |  |  | 2382.2

Jackie Painter,
Director, Division of the Executive Secretariat.

[FR Doc. 2016-04984 Filed 3-4-16; 8:45 am]

BILLING CODE 4165-15-P